DEPARTMENT OF JUSTICE

[OMB Number 1117-0001]

Agency Information Collection Activities; Proposed eCollection eComments Requested; Information Collection Under Review; Report of Theft or Loss of Controlled Substances

AGENCY: Drug Enforcement Administration, Department of Justice.

ACTION: 60-day notice.

SUMMARY: The Department of Justice (DOJ), Drug Enforcement Administration (DEA), will be submitting the following information collection request to the Office of Management and Budget (OMB) for review and approval in accordance with the Paperwork Reduction Act of 1995. The proposed information collection is published to obtain comments from the public and affected agencies.

DATES: Comments are encouraged and will be accepted for 60 days until July 22, 2014.

FOR FURTHER INFORMATION CONTACT: If you have additional comments especially on the estimated public burden or associated response time, suggestions, or need a copy of the proposed information collection instrument with instructions or additional information, please contact Ruth A. Carter, Office of Diversion Control, Drug Enforcement Administration, 8701 Morrissette Drive, Springfield, Virginia 22152.

SUPPLEMENTARY INFORMATION: This process is conducted in accordance with 5 CFR 1320.10. Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including the use of appropriate automated, electronic, mechanical, or other technological collection techniques or other forms of information technology, e.g., permitting electronic submission of responses.

Overview of this information collection

1. Type of Information Collection: Extension of a currently approved collection.

2. The Title of the Form/Collection: Report of Theft or Loss of Controlled Substances—DEA Form 106

3. The agency form number, if any, and the applicable component of the Department sponsoring the collection: The form number is DEA Form 106. Office of Diversion Control, Drug Enforcement Administration, United States Department of Justice.

4. Affected public who will be asked or required to respond, as well as a brief abstract:

Primary: Business or other for-profit.

Other: Not-for-profit, State, local or tribal government.

Abstract: Title 21 CFR, 1301.74(c) and 1301.76(b) require DEA registrants to complete and submit DEA Form 106 upon discovery of a theft or significant loss of controlled substances. This provides accurate accountability and allows DEA to monitor substances diverted for illicit purposes.

5. An estimate of the total number of respondents and the amount of time estimated for an average respondent to respond: The DEA estimates that 9,655 registrants submit 25,430 forms (24,189 electronic/1,241 paper) annually for this collection, taking .33 hours (20 minutes) to complete each form.

6. An estimate of the total public burden (in hours) associated with the collection: An estimate of the total public burden (in hours) associated with the collection: 8,477 hours annual burden hours.

If additional information is required contact: Jerri Murray, Department Clearance Officer, United States Department of Justice, Justice Management Division, Policy and Planning Staff, Two Constitution Square, 145 N Street NE., 3E.405B, Washington, DC 20530.

Dated: May 20, 2014.
Jerri Murray,
Department Clearance Officer for PRA, U.S. Department of Justice.

[FR Doc. 2014-11953 Filed 5-22-14; 8:45 am]

BILLING CODE 4410-09-P